DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[7/29/2010 through 9/8/2010]
Firm name | Address | Date accepted for investigation | Products
Advanced Dental Technologies, Inc | 85 Maple Street, P.O. Box 80427, Stoneham, MA 02180 | 8/31/2010 | The firm produces dental prosthetics for dental patients. All products are patient specific and unique.
Air-Hydraulics, Inc | 545 Hupp Avenue, Jackson, MI 49203 | 8/31/2010 | The firm manufactures hydraulic, air over oil and pneumatic presses, rotary index tables, pneumatic impact hammers, electric punches, and custom turnkey assembly and metal forming machinery.
Auburn Systems, LLC | 8 Electronics Avenue, Danvers, MA 01923 | 8/31/2010 | The firm manufactures dust leak detectors.
Buffelen Woodworking Company | 1901 Taylor Way, Tacoma, WA 98421 | 9/7/2010 | The firm manufactures wooden doors.
C-Thru Ruler Company | 6 Britton Drive, Bloomfield, CT 06002 | 9/7/2010 | The firm manufacturers various stencils, vinyl lettering and oil board lettering. The firm also manufactures rulers, drafting supplies, plastic rulers and various templates.
Custom Machine, LLC | 30 Nashua Street, Woburn, MA 01801 | 8/27/2010 | The firm manufactures precision commercial, medical and alternative energy components and assemblies.
ES Products, LLC | 280 Franklin Street, Bristol, RI 02809 | 8/31/2010 | The firm manufactures roofing fasteners for the attachment of an initial layer of a multi-layer membrane system to low slope, low density roof decks.
Exotic Rubber & Plastics Corporation, dba Exotic Automation & Supply | 34700 Grand River Avenue, Farmington Hills, MI 48335 | 9/7/2010 | The firm manufactures rubber and plastic molded parts and gaskets. The firm also distributes power units, cylinders, valves, servo controls, and fittings.
Fiber-Line, Inc | 3050 Campus Drive #200, Hatfield, PA 19440 | 9/7/2010 | The firm manufactures coated fibers and FRP rods.
Heli Modified, Inc | P.O. Box 63820 Industrial Way, Cornish, ME 04020 | 9/7/2010 | The firm manufacturers ergonomically correct replacement motorcycle handlebar and risers.
NBC Solid Surfaces, Inc | 200 Clinton Street, Springfield, VT 05156 | 9/8/2010 | The firm manufactures counter tops made with granite, corian, quartz, marble and wood.
OptiPro Systems, LLC | 6368 Dean Parkway, Ontario, NY 14519 | 9/3/2010 | The firm manufactures optical grinding, polishing and measuring machines and performs government research. The firm also distributes machine tools, CAS/CAM software, and measuring systems.
Pacific Trail Manufacturing, Inc | 6532 SE. Crosswhite Way, Portland, OR 97206 | 9/3/2010 | The firm fabricates specialized chain saws that cut full units of various wood products and paper rolls to shorter lengths than the originals.
Parlec, Inc | 101 Perinton Parkway, Fairport, NY 14450 | 7/29/2010 | The firm manufactures machine tool accessories including tool holders, boring systems, tapping systems, and tool presetters,
Porta-Nails, Inc | 4235 Hwy 421 N, Currie, NC 28435 | 9/1/2010 | The firm produces manual and pneumatic nail and staple guns.
Roylco, Inc | P.O. Box 13409, 3251 Abbeville Highway, Anderson, SC 29624 | 9/7/2010 | The firm produces educational and hobby/craft kits.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: September 9, 2010.
Miriam J. Kearse,
Program Team Lead.

[FR Doc. 2010-22956 Filed 9-14-10; 8:45 am]

BILLING CODE 3510-24-P